OFFICE OF PERSONNEL MANAGEMENT

5 CFR Part 210

RIN 3206-AJ98

Basic Concepts and Definitions (General)

AGENCY: Office of Personnel Management.

ACTION: Proposed rule.

SUMMARY: The Office of Personnel Management (OPM) is proposing a plain language rewrite of its regulations on basic concepts and definitions as part of a broader review of OPM's regulations. The purpose of the revisions is to make the regulations more readable.

DATES: Comments must be received on or before August 29, 2003.

ADDRESSES: Send, deliver or fax comments to Ellen Tunstall, Deputy Associate Director for Talent and Capacity Policy, U.S. Office of Personnel Management, Room 6551, 1900 E Street, NW., Washington, DC 20415-9700; e-mail employ@opm.gov; fax: 202-606-2329.

FOR FURTHER INFORMATION CONTACT: Ms. Karen Jacobs on (202) 606-0960, by TTY on (202) 418-3134, by fax on (202) 606-2329, or by e-mail at kkjacobs@opm.gov.

SUPPLEMENTARY INFORMATION: OPM is working on an agency-wide project to make regulations found in title 5 of the Code of Federal Regulations (CFR) more readable. Part 210 contains the definitions commonly used throughout title 5 of the CFR. As a part of this project, we are adding definitions for words agency and must; and we are deleting the definitions for eligible and metropolitan area of Washington, DC. The new definitions are added to permit the use of standard definitions, where appropriate, for these commonly used terms. The definitions for metropolitan area of Washington, DC and eligible are being deleted because we have found that these definitions frequently vary depending on how they are used.

Regulatory Flexibility Act

I certify that these regulations will not have a significant economic impact on a substantial number of small entities (including small businesses, small organizational units, and small governmental jurisdictions) because the regulations apply only to appointment procedures for certain employees in Federal agencies.

E.O. 12866, Regulatory Review

This rule has been reviewed by the Office of Management and Budget in accordance with Executive Order 12866.

List of Subjects in 5 CFR Part 210

Government employees.

Office of Personnel Management.
Kay Coles James,
Director.

Accordingly, OPM proposes to revise 5 CFR part 210 as follows:

PART 210—BASIC CONCEPTS AND DEFINITIONS (GENERAL)

Sec.
210.101 What is the scope of coverage for OPM regulations contained in title 5 of the Code of Federal Regulations?
210.102 Definitions.

Authority: 5 U.S.C. 1302, 1305, 2101a, 2102, 2103, 3102, 3109, 3110, 3112, 3136, 3301, 3302, 3304, 3304a, 3319, 3324, 3376, 3397, 3402, 3502, 3596, 4118, 4305, 4315, 4502, 4505a, 4506, 4705, 5115, 5304, 5307, 5338, 5343, 5365, 5372, 5372b, 5385, 5504, 5527, 5542, 5544, 5545a, 5545b, 5548, 5550a, 5553, 5583, 5596, 5753, 5754, 5755, 5902, 5903, 5948, 6101, 6133, 6311, 6322, 6326, 6327, 6334, 6336, 6340, 6365, 6373, 6387, 6391, 7201, 7204, 7325, 7504, 7514, 8332, 8334, 8341, 8342, 8343a, 8347, 8411, 8461, 8714d, 8716, 8906a, 8909, 8913, 9008; E.O. 10577, 11228, 11589, 12109; 3 CFR, 1954-1958 Comp. p. 218.

§ 210.101 What is the scope of coverage for OPM regulations contained in title 5 of the Code of Federal Regulations?

In general, the scope of coverage for a part is stated specifically in the part or is otherwise apparent from the substance of the part. Parts 315 through 339 of this chapter apply to all positions in the competitive service and to all incumbents of those positions, but do not apply to positions in the excepted service or to incumbents of those positions, except as specified.

§ 210.102 Definitions.

These definitions apply throughout this chapter, except when a defined term is specifically modified in or specifically defined for the purpose of a particular part.

Agency has the same meaning as executive agency in 5 U.S.C. 105.

Appointing officer means a person having power by law, or by lawfully delegated authority, to make appointments to positions in the Federal Government.

Competitive service has the same meaning as 5 U.S.C. 2102.

Days means calendar days and not workdays.

Demotion means a change of an employee, while serving continuously within the same agency:

(1) To a lower grade when both the old and the new positions are under the General Schedule or under the same type of graded wage schedule; or

(2) To a position with a lower rate of pay when both the old and the new positions are under the same type of ungraded wage schedule, or are in different pay method categories.

Employee means a civilian officer or employee.

Excepted Service has the same meaning as 5 U.S.C. 2103.

Must means an individual is obligated to act in the manner specified. It has the same meaning and effect as “shall.”

Noncompetitive action means a promotion, demotion, reassignment, transfer, or reinstatement. Noncompetitive actions may also include appointments based on prior service.

OPM means the Office of Personnel Management.

Overseas means outside the continental United States, but does not include Alaska, Guam, Hawaii, the Isthmus of Panama, Puerto Rico, or the Virgin Islands.

Position change means a promotion, demotion, or reassignment.

Promotion means a change of an employee, while serving continuously within the same agency:

(1) From one General Schedule grade to a higher General Schedule grade;

(2) From one grade to a higher grade when both positions are under the same type of graded wage schedule; or

(3) To a position with a higher rate of pay when both the old and the new positions are under the same type of ungraded wage schedule, or are in different pay method categories.

Reassignment means a change of an employee, while serving continuously within the same agency, from one position to another consistent with the provisions of part 335 of this chapter.

Reemployed annuitant means an employee whose annuity under subchapter III of chapter 83, or subchapter II or V of chapter 84 of title 5, United States Code, continued on reemployment in an appointive position on or after October 1, 1956.

Register means a list of qualified applicants in order of relative standing for certification. A register is sometimes referred to as an inventory.

Reinstatement means the noncompetitive reemployment of a former career or career-conditional employee into the competitive service.

Senior Executive Service has the same meaning as 5 U.S.C. 2101a.

Status quo employee means an employee who failed to acquire a competitive status when the position in which the employee was serving was placed in the competitive service by a statute, Executive order, or Civil Service rule that permitted the employee's retention without the acquisition of status.

Tenure means the period of time an employee may reasonably expect to serve. It is determined by the type of appointment under which the employee is serving without regard to whether the employee has competitive status or whether the employee's appointment is in a competitive position or in an excepted position.

Transfer means a change of an employee, without a break in service of 1 full workday, from a position in one agency to a position in another agency.

[FR Doc. 03-16410 Filed 6-27-03; 8:45 am]

BILLING CODE 6325-38-P